NUCLEAR REGULATORY COMMISSION

Sunshine Federal Register Notice

DATES: Weeks of June 16, 23, 30, July 4, 14, 21, 2008.

PLACE: Commissioners' Conference Room, 11555 Rockville Pike, Rockville, Maryland.

STATUS: Public and Closed.

Week of June 16, 2008

Tuesday, June 17, 2008

12:55 p.m. Affirmation Session (Public Meeting) (Tentative).

a. U.S. DOE (HLW Repository: Pre-Application Matters), Docket No. PAPO-00—The State of Nevada's Notice of Appeal from the PAPO Board's 1/4/08 and 12/12/07 Orders and The State of Nevada's Motion to File a Limited Reply (Tentative).

b. AmerGen Energy Company, LLC, (License Renewal for Oyster Creek Nuclear Generating Station); Citizens' Motion to Stay proceedings (Tentative).

c. U.S. Department of Energy (High-Level Waste Repository: Pre-Application Matters, Advisory PAPO Board), Advisory PAPO Board Request for Additional Authority (Tentative).

Week of June 23, 2008—Tentative

Wednesday, June 25, 2008

1 p.m. Periodic Briefing on New Reactor Issues. (Public Meeting) (Contact: Donna Williams, 301-415-1322).

This meeting will be webcast live at the Web address— http://www.nrc.gov.

Week of June 30, 2008—Tentative

Tuesday, July 1, 2008

9 a.m. Hearing: Diablo Canyon, 10 CFR part 2, Subpart K Proceeding, Oral Arguments (Public Meeting) (Contact: John Cordes, 301-415-1600).

This meeting will be webcast live at the Web address— http://www.nrc.gov.

Week of July 7, 2008—Tentative

There are no meetings scheduled for the week of July 7, 2008.

Week of July 14, 2008—Tentative

Thursday, July 17, 2008

1 p.m. Briefing on Fire Protection Issues (Public Meeting) (Contact: Alex Klein, 301-415-2822).

This meeting will be webcast live at the Web address— http://www.nrc.gov.

Week of July 21, 2008—Tentative

Wednesday, July 23, 2008

1:30 p.m. Discussion of Security Issues (Closed—Ex. 1 & 3).

Thursday, July 24, 2008

1:30 p.m. Discussion of Security Issues (Closed—Ex. 1 & 3).

* * * * *

*The schedule for Commission meetings is subject to change on short notice. To verify the status of meetings, call (recording)—(301) 415-1292. Contact person for more information: Michelle Schroll, (301) 415-1662.

* * * * *

Additional Information

The “Discussion of Adjudicatory Issues (Closed—Ex. 10)” previously scheduled on Tuesday, June 17, 2008, at 1 p.m. has been cancelled.

* * * * *

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g., braille, large print), please notify the NRC's Disability Program Coordinator, Rohn Brown, at 301-492-2279, TDD: 301-415-2100, or by e-mail at REB3@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: June 12, 2008.
R. Michelle Schroll,
Office of the Secretary.

[FR Doc. 08-1365 Filed 6-13-08; 10:47 am]

BILLING CODE 7590-01-M